DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Substance Abuse Prevention and Treatment (SAPT) Block Grant Application Guidance and Instructions, FY 2002—2004 (OMB No. 0930-0080, Revision)—Sections 1921 through 1935 of the Public Health Service Act (U.S.C. 300x-21 to 300x-35) provide for annual allotments to assist States to plan, carry out, and evaluate activities to prevent and treat substance abuse and for related activities. Under the provisions of the law, States may receive allotments only after an application is submitted and approved by the Secretary, DHHS. For the federal fiscal year 2002-2004 SAPT block grant application cycles, the Substance Abuse and Mental Health Services Administration (SAMHSA) will provide States with revised application guidance and instructions to implement changes made by Public Law 106-310, signed by the President on October 17. Revisions to the previously-approved application resulting from the new SAMHSA authorizing legislation reflect the following changes: (1) Section 1922(a) under which States were required to use 35% of the funds on drug related activities and 35% on alcohol related activities (42 U.S.C. 300x-22) is repealed. (2) The Section 1925 requirement for the States to maintain a revolving fund of $100,000 to assist with half way houses for persons recovering from drug or alcohol abuse is now made optional (42 U.S.C. 300x-25). (3) Section 1930, which requires the States to maintain their financial support for substance abuse services at a level equal to the average of what they had spent the previous two years, is amended to permit non-recurring expenditures for a singular purpose to be excluded from the calculation of the Maintenance of Effort (MOE) requirement (42 U.S.C. 300x-30). (4) Section 1952 is amended to allow any amount paid to a State for a fiscal year to be available for obligation and expenditure until the end of the fiscal year following the fiscal year for which the amounts were paid, in effect giving a State two years to obligate and spend (42 U.S.C. 300x-62). These changes do not have an impact on the burden estimate for the application.

In addition, changes are being made to the annual reporting requirements associated with Section 1926 (42 U.S.C. 300x-26), which requires States to have in effect a law prohibiting access and distribution of tobacco products to minors under age 18. In Section II, the following changes are being made with respect to Goal #8 and Attachment G: (1) In Goal #8, States will not be required to report on activities that were reported in previous applications (i.e., the requirement to report on prior year compliance information is eliminated). (2) In Attachment G: (a) questions are re-ordered so they are in chronological order to facilitate reporting on compliance activities; (b) seven of the nine questions are revised to define more precisely the information that SAMHSA needs in order to review and approve applications and eliminate duplication in State reporting; (c) Matrix 7a has been renamed Form G3, and Form G3 now requires States to report specific ages of the youth inspectors rather than age ranges. These changes do not impose additional response burden for the application and should shorten the time for review of applications.

Annual Reporting Burden
| Number of respondents | Responses per respondent | Hours per response | Total burden
Sections I-III—Red Lake Indians | ¹ 1 | 1 | 531 | 531
Sections I-III—States and Territories | 59 | 1 | 564 | 33,276
Section IV-A | 40 | 1 | 50 | 2,000
Section IV-B | 20 | 1 | 42 | 840
Total |  |  |  | 36,647
¹ Red Lake Indian Tribe is not subject to tobacco requirements.

Send comments to Nancy Pearce, SAMHSA Reports Clearance Officer, Room, 16-105, Parklawn Building, 5600 Fishers Lane, Rockville, Maryland 20857. Written comments should be received within 60 days of this notice.

Dated: November 14, 2000.
Joseph H. Autry III,
Deputy Administrator, SAMHSA.

[FR Doc. 00-29564 Filed 11-17-00; 8:45 am]

BILLING CODE 4162-20-P